ENVIRONMENTAL PROTECTION AGENCY

[FRL-8534-5]

Coastal Elevations and Sea Level Rise Advisory Committee Meeting

AGENCY: Environmental Protection Agency (EPA).

ACTION: Notice of meeting.

SUMMARY: Under the Federal Advisory Committee Act (Pub. L. 92-463), EPA gives notice of a meeting of the Coastal Elevations and Sea Level Rise Advisory Committee.

DATES: The meeting will consist of two sessions: the first on Monday, March 17, 2008, from 1 p.m. until 5 p.m. EST; the second on Tuesday, March 18, 2008, from 1 p.m. until no later than 5 p.m. EST. The meeting may end earlier than 5 p.m. on March 18 if the Committee has concluded its business.

ADDRESSES: The meeting will take place via teleconference. Interested parties can access the teleconference as follows. First, dial the following toll free number: (800) 704-9804. Second, enter the following conference code: 661428. The leader will begin the conference call.

FOR FURTHER INFORMATION CONTACT: Jack Fitzgerald, Designated Federal Officer, Climate Change Division, Mail Code 6207J, Office of Atmospheric Programs, Environmental Protection Agency, 1200 Pennsylvania Avenue, NW., Washington, DC 20460; e-mail address: Fitzgerald.jack@epa.gov, telephone number (202) 343-9336, fax: (202) 343-2337.

SUPPLEMENTARY INFORMATION: The purpose of CESLAC is to provide advice on a study titled Coastal Elevations and Sensitivity to Sea Level Rise being conducted as part of the U.S. Climate Change Science Program. Copies of the study prospectus and CESLAC Charter are available at http://www.climatescience.gov/Library/sap/sap4-1/default.php and http://www.fido.gov/facadatabase/. This fourth meeting of CESLAC will focus on consideration of a draft of the study recently issued for public review and preparation of the Committee's report. Draft materials to be considered in the meeting will be available at http://www.environmentalinformation.net/CESLAC/. Based on the extent of public participation in the first three meetings of CESLAC, thirty minutes of this fourth meeting will be allocated for statements by members of the public at 1:30 p.m. on March 18. Individuals who are interested in making statements should inform Jack Fitzgerald of their interest by Tuesday, March 11, and provide a copy of their statements for the record. Individuals will be scheduled in the order that their statements of intent to present are received. A minimum of three minutes will be provided for each statement. The maximum amount of time will depend on the number of statements to be made. All statements, regardless of whether there is sufficient time to present them orally, will be included in the record and considered by the committee. To request accommodation of a disability, please also contact Jack Fitzgerald, preferably at least ten days prior to the meeting, to give EPA as much time as possible to process your request.

Dated: February 21, 2008.
Jack Fitzgerald,
Designated Federal Officer.

[FR Doc. E8-3691 Filed 2-26-08; 8:45 am]

BILLING CODE 6560-50-P